DEPARTMENT OF THE INTERIOR

Bureau of Land Management

[MT-912-0777-HN-003E]

Notice of Implementation of Level 3 Fire Restrictions in Eastern Montana; Montana

AGENCY: Bureau of Land Management, Interior.

ACTION: Notice.

SUMMARY: Bureau of Land Management Montana State Director Mat Millenbach has initiated Level 3 fire restrictions, effective August 11, 2000, on the BLM lands in the Montana counties listed below. These restrictions strengthen those initiated last week on BLM lands and are in response to the regions's increasing fire potentials, the current level of fire activity, and the current scarcity of fire suppression resources.

The Level 3 fire restrictions apply to BLM lands in: Liberty, Hill, Blaine, Phillips, Valley, Daniels, Sheridan, Roosevelt, Choteau, Judith Basin, Fergus, Petroleum, Garfield, McCone, Richland, Dawson, Prairie, Wibaux, Wheatland, Golden Valley, Musselshell, Yellowstone, Big Horn, Treasure, Rosebud, Custer, Powder River, Fallon, and Carter counties.

With Level 3 fire restrictions, the following activities are prohibited on BLM managed lands:

Building, maintaining, attending, or using a campfire or any open fire except at a developed, designated recreation site or campground is prohibited. On public lands in the Upper Missouri River Wild and Scenic River corridor campfires or charcoal fires will only be permitted in these three developed, designated sites: Coal Banks Landing, Judith Landing and Kipp Recreation Area (43 CFR 9212.1(h)). Gas-and liquid-fueled stoves and lanterns are still permitted.

Smoking, except within an enclosed vehicle or building; at an improved place of habitation; at a developed, designated recreation site or campground; or while stopped in an area at least 3 feet in diameter that is cleared of all flammable material, is prohibited (43 CFR 9212.1(h)).

Use of chainsaws or other equipment with internal combustion engines for felling, bucking, skidding, wood cutting, road building, and other high fire risk operations between 1 p.m. and 1 a.m. local time is prohibited. Exceptions are helicopter yarding and earth moving on areas of cleared and bare soil. Sawing incidental to loading operations on cleared landings is not necessarily restricted (43 CFR 9212.1(h)).

Using chainsaws or other equipment with internal combustion engines for felling, bucking, skidding, wood cutting or any other operation within areas having a significant accumulation of dead or down slash or timber is prohibited (43 CFR 9212.1(h)).

Welding, blasting (except seismic operations confined by ten or more feet of soil, sand or cuttings), and other activities with a high potential for causing forest fires are prohibited (43 CFR 9212.1(h)).

A patrol is required for a period of two hours after any woods operations including felling, bucking, skidding, wood cutting, or road building cease. A patrol is also required for one hour following the cessation of all work activity. The patrolperson's responsibilities include checking for compliance with required fire precautions.

Possessing or using motorized vehicles such as, but not limited to cars, trucks, trail bikes, motorcycles and all terrain vehicles off cleared roads is prohibited except for persons engaged in a trade, business or occupation in the area. Cleared roads are defined as roads at least 12′ wide and cleared of vegetation shoulder to shoulder (43 CFR 9212.1(h)).

Exemptions to the above prohibitions are allowed only for any Federal, State, or local officer, or member of an organized rescue or firefighting force in the performance of an official duty, or persons with a permit or written authorization allowing the otherwise prohibited act or omission.

Authority for these prohibitions is pursuant to the Federal Land Policy and Management Act of 1976 (43 U.S.C. 1701, et seq.), Sections 302(b) and 301(a); and Title 43 of the Code of Federal Regulations, Part 9210 (Fire Management), Subpart 9212 (Wildfire Prevention). These restrictions will become effective at 1:00 a.m., Mountain Daylight Time, August 11, 2000, and will remain in effect until rescinded or revoked.

Violation of this prohibition is punishable by a fine of not more than $1,000 or imprisonment for not more than 12 months, or both.

DATES: Restrictions go into effect at 1 a.m. Friday, August 11, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

August 10, 2000.
Mat Millenbach,
State Director.

[FR Doc. 00-20761 Filed 8-11-00; 10:57 am]

BILLING CODE 4310-$$-P